DEPARTMENT OF ENERGY

Federal Energy Regulatory Commission

[Docket Nos. CP78-123-000; CP80-435-000]

Alaskan Northwest Natural Gas Transportation Company; Notice of Effectiveness of Surrender of Certificate and Termination of Proceeding

February 6, 2009.

On December 15, 2008, as supplemented on January 23, 2009, Alaskan Northwest Natural Gas Transportation Company (ANNGTC) ¹ submitted a notice that it was surrendering the conditional certificate that the Commission issued to ANNGTC in Docket Nos. CP78-123 and CP80-435, authorizing the construction of the Alaskan pipeline segment of the Alaska Natural Gas Transportation System (ANGTS) and the Alaska Gas Conditioning Facility.² ANNGTC's partners have concluded that ANNGTC is no longer a viable entity and that ANNGTC cannot feasibly pursue the ANGTS pipeline project conditionally authorized in Docket Nos. CP78-123 and CP80-435.

¹ ANNGTC is a partnership, the sole remaining partners of which are TransCanada Pipeline USA, Ltd. and United Alaska Fuels Corporation.

² See Alcan Pipeline Company, 1 FERC ¶ 61,248 (1977); Alaskan Northwest Natural Gas Transportation Company (formerly Alcan Pipeline Company and Northwest Alaskan Pipeline Company), 3 FERC ¶ 61,290 (1978); 18 FERC ¶ 61,002 (1982); and Northwest Alaskan Pipeline Company, et al., 19 FERC ¶ 61,078 (1982).

Because ANNGTC never perfected its conditional certificate and never constructed any facilities or provided any services under the Natural Gas Act (NGA), there are no facilities or services subject to the abandonment provisions of NGA section 7(b), and no abandonment authorization or other Commission action is required. Accordingly, ANNGTC's surrender of the certificate issued in Docket Nos. CP78-123 and CP80-435 is accepted by the Commission and this proceeding is terminated.

Kimberly D. Bose,
Secretary.

[FR Doc. E9-3228 Filed 2-13-09; 8:45 am]

BILLING CODE 6717-01-P